DEPARTMENT OF HEALTH AND HUMAN SERVICES

Food and Drug Administration

21 CFR Parts 16 and 900

[Docket No. 99N-4578]

RIN 0910-AB98

State Certification of Mammography Facilities; Correction

AGENCY: Food and Drug Administration, HHS.

ACTION: Proposed rule; correction.

SUMMARY: The Food and Drug Administration (FDA) is correcting a proposed rule that appeared in the Federal Register of March 30, 2000 (65 FR 16847). The document proposes to implement the “States as certifiers provisions” of the Mammography Quality Standards Act of 1992 (the MQSA). In the March 30, 2000, proposed rule, there were two incorrect references to the provisions of the MQSA being implemented. This document corrects those errors.

FOR FURTHER INFORMATION CONTACT: Ruth A. Fischer, Center for Devices and Radiological Health (HFZ-240), Food and Drug Administration, 1350 Piccard Dr., Rockville, MD 20850, 301-594-3332, FAX 301-594-3306.

SUPPLEMENTARY INFORMATION: In FR Doc. 00-7653, appearing on page 16847 in the Federal Register of March 30, 2000, the following corrections are made:

1. On page 16847, in the first column, under the SUMMARY, in line 3, “patient notification” is corrected to read “States as certifiers”.

2. On page 16848, in the first column, the heading in section D, “The Patient Notification Provisions” is corrected to read “The States as Certifiers Provisions”.

Dated: April 15, 2000.
Linda S. Kahan,
Deputy Director for Regulations Policy, Center for Devices and Radiological Health.

[FR Doc. 00-11330 Filed 5-4-00; 8:45 am]

BILLING CODE 4160-01-F